FEDERAL COMMUNICATIONS COMMISSION

[Report No. 2614]

Petitions for Reconsideration and Clarification of Action in Rulemaking Proceeding

July 1, 2003.

Petitions for Reconsideration and Clarification have been filed in the Commission's Rulemaking proceeding listed in this Public Notice and published pursuant to 47 CFR 1.429(e). The full text of this document is available for viewing and copying in Room CY-A257, 445 12th Street, SW., Washington, DC or may be purchased from the Commission's copy contractor, Qualex International (202) 863-2893. Oppositions to these petitions must be filed by July 23, 2003. See section 1.4(b)(1) of the Commission's rules (47 CFR 1.4(b)(1)). Replies to an opposition must be filed within 10 days after the time for filing oppositions have expired.

Subject: In the Matter of the Reexamination of the Comparative Standard for Noncommercial Educational Applicants (MM Docket No. 95-31).

Number of Petitions Filed: 8.

Marlene H. Dortch,
Secretary.

[FR Doc. 03-17119 Filed 7-07-03; 8:45 am]

BILLING CODE 6712-01-M